DEPARTMENT OF TRANSPORTATION

Office of the Secretary

Notice of Applications for Certificates of Public Convenience and Necessity and Foreign Air Carrier Permits Filed Under Subpart B (formerly Subpart Q) filed With the Department between March 25, and May 17, 2002

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Applications filed during week ending: March 29, 2002.

Docket Number: OST-2002-11966.

Date Filed: March 27, 2002.

Due Date for Answers, Conforming Applications, or Motion to Modify Scope: April 17, 2002.

Description: Application of Triair (Bermuda) Limited, pursuant to 49 U.S.C. 41301 and Subpart B, requesting a foreign air carrier permit to conduct commercial operations in foreign air transportation between the United States, United Kingdom and Ireland.

Applications filed during week ending: April 12, 2002.

Docket Number: OST-2002-12080.

Date Filed: April 9, 2002.

Due Date for Answers, Conforming Applications, or Motion to Modify Scope: April 30, 2002.

Description: Application of China Cargo Airlines Ltd., pursuant to 49 U.S.C. 41302, 14 CFR §211.20 and Subpart B, requesting an initial foreign air carrier permit to engage in foreign air transportation of property and mail between Beijing and Shanghai, People's Republic of China and Anchorage, Los Angeles, San Francisco, Seattle, Chicago (O'Hare) and New York (JFK).

Applications filed during week ending: April 19, 2002.

Docket Number: OST-1999-5062.

Date Filed: April 15, 2002.

Due Date for Answers, Conforming Applications, or Motion to Modify Scope: May 6, 2002.

Description: Motion of Daystar Airways, Ltd. d/b/a Nevis Express, to amend its certificate of public convenience and necessity for Route 786, to include the points Dominican Republic, Antigua, Anguilla, Barbados and the Netherlands Antilles.

Docket Number: OST-1999-6425.

Date Filed: April 16, 2002.

Due Date for Answers, Conforming Applications, or Motion to Modify Scope: May 7, 2002.

Description: Motion of Polar Air Cargo, Inc. for leave to file; and Supplement No. 1 to its application to expand its certificate of public convenience and necessity for Route 651, authorizing Polar to offer scheduled foreign air transportation of property and mail to the countries detailed herein.

Docket Number: OST-2002-12135.

Date Filed: April 16, 2002.

Due Date for Answers, Conforming Applications, or Motion to Modify Scope: May 7, 2002.

Description: Application of Van Gaever & Co. N.V. d/b/a VG Airlines, pursuant to 49 U.S.C. 41301, § 211.20 and Subpart B, requesting an initial foreign air carrier permit to provide foreign air transportation of persons, property, and mail between Belgium and the United States.

Docket Number: OST-2002-12145.

Date Filed: April 18, 2002.

Due Date for Answers, Conforming Applications, or Motion to Modify Scope: May 9, 2002.

Description: Application of BNJ Charter Company LLC, pursuant to 49 U.S.C. 41102 and Subpart B, requesting a certificate of public convenience and necessity to provide foreign charter transportation of persons, property, and mail.

Docket Number: OST-2002-12147.

Date Filed: April 18, 2002.

Due Date for Answers, Conforming Applications, or Motion to Modify Scope: May 9, 2002.

Description: Application of BNJ Charter Company LLC, pursuant to 49 U.S.C. 41102 and Subpart B, requesting a certificate of public convenience and necessity to provide interstate charter air transportation of persons, property, and mail.

Applications filed during week ending: April 26, 2002.

Docket Number: OST-2002-12158.

Date Filed: April 22, 2002.

Due Date for Answers, Conforming Applications, or Motion to Modify Scope: May 13, 2002.

Description: Application of European Aviation Air Charter Limited, pursuant to 49 U.S.C. 41305, Part 211 and Subpart B, requesting a foreign air carrier permit authorizing charter air transportation of persons, property, and mail between a point or points in the United Kingdom and a point or points in the United States, and also authorizing applicant to engage in other charter trips in foreign air transportation subject to the terms, condition, and limitations of the Department's regulations governing charters.

Applications filed during week ending: May 10, 2002.

Docket Number: OST-1996-1131.

Date Filed: May 7, 2002.

Due Date for Answers, Conforming Applications, or Motion to Modify Scope: May 28, 2002.

Description: Application of United Air Lines, Inc., pursuant to 49 U.S.C. 41101, 14 CFR part 302, and subpart B, requesting renewal of its certificate of public convenience and necessity for Route 130, segments 1, 4, 6, 7, 9, and 10, which authorizes United to engage in scheduled foreign air transportation of persons, property, and mail between various points in the United States and Japan, the Philipines and Vietnam.

Docket Number: OST-1996-1248.

Date Filed: May 7, 2002.

Due Date for Answers, Conforming Applications, or Motion to Modify Scope: May 29, 2002.

Description: Application of United Air Lines, Inc., pursuant to 49 U.S.C. 41101, 14 CFR part 302, and subpart B, requesting renewal of its certificate of public convenience and necessity for Route 130, segments 1, 4, 6, 7, 9, and 10, which authorizes United to engage in scheduled foreign air transporation of persons, property, and mail between various points in the United States and Japan, the Philipines and Vietnam.

Docket Number: OST-1996-1530.

Date Filed: May 7, 2002.

Due Date for Answers, Conforming Applications, or Motion to Modify Scope: May 28, 2002.

Description: Application of Federal Express Corporation, pursuant to 49 U.S.C. 41102 and Subpart B, requesting renewal of its experimental certificate of public convenience and necessity for Route 638, to provide scheduled foreign air transportation of property and mail between points in the United States, on the one hand, and points in China, on the other hand, via intermediate points, and beyond to any points outside of China.

Docket Number: OST-1996-1873.

Date Filed: May 7, 2002.

Due Date for Answers, Conforming Applications, or Motion to Modify Scope: May 28, 2002.

Description: Application of United Airlines, Inc., pursuant to 49 U.S.C. 41101, 14 CFR part 302, and subpart B, requesting renewal of its certificate of public convenience and necessity for Route 130, segments 1, 4, 6, 7, 9, and, 10 which authorizes United to engage in scheduled foreign air transporation of persons, property and mail between various points in the United States and Japan, the Philipines and Vietnam.

Docket Number: OST-1997-2046.

Date Filed: May 7, 2002.

Due Date for Answers, Conforming Applications, or Motion to Modify Scope: May 28, 2002.

Description: Application of United Air Lines, Inc., pursuant to 49 U.S.C. 41101, 14 CFR parts 201 and 302, and subpart B, requesting renewal of its certificate of public convenience and necessity for Route 632, segments 1 and 6, which authorizes United to engage in scheduled foreign air tranportation of persons, property, and mail between various named points in the United States and Sao Paulo, Rio de Janeiro, Brasilia and Belem, Brazil; Brranquilla, Colombia; and Buenos Aires, Argentina.

Docket Number: OST-2002-12274.

Date Filed: May 7, 2002.

Due Date for Answers, Conforming Applications, or Motion to Modify Scope: May 28, 2002.

Description: Application of Twinjet Aircraft Sales Limited, d/b/a Twinjet Aircraft, pursuant to 49 U.S.C. 41302, 14 CFR part 211, and subpart B, requesting a foreign air carrier permit to engage in ad hoc charter foreign air transportation of passengers (and their accompanying baggage) and cargo between: (1) Any point or points in the United Kingdom and any points in the United States; (2) between any point or points in the United States and any point or points in a third country or countries; and, (3) on any other charter flights authorized pursuant to Part 212.

Docket Number: OST-1997-2558.

Date Filed: May, 8, 2002.

Due Date for Answers, Conforming Applications, or Motion to Modify Scope: May 29, 2002.

Description: Application of Continental Micronesia, Inc., pursuant to 49 U.S.C. 41002 and subpart B, requesting renewal of its certificate authority for Route 171, segments 3, 4, 5, 6 and 12.

Docket Number: OST-2002-12295.

Date Filed: May, 8, 2002.

Due Date for Answers, Conforming Applications, or Motion to Modify Scope: May 29, 2002.

Description: Application of Continental Micronesia, Inc., pursuant to 49 U.S.C. 41002 and subpart B, requesting renewal of its certificate authority for Route 171, segments 3, 4, 5, 6 and 12.

Dorothy Y. Beard,
Federal Register Liaison.

[FR Doc. 02-13552 Filed 5-29-02; 8:45 am]

BILLING CODE 4910-62-P